Executive Order 13763 of January 13, 2017

Providing an Order of Succession Within the Environmental Protection Agency

By the authority vested in me as President by the Constitution and the laws of the United States of America, including the Federal Vacancies Reform Act of 1998, as amended, 5 U.S.C. 3345 et seq. (the “Act”), it is hereby ordered that:

Section 1. Order of Succession. Subject to the provisions of section 2 of this order, and to the limitations set forth in the Act, the following officials of the Environmental Protection Agency, in the order listed, shall act as and perform the functions and duties of the office of the Administrator of the Environmental Protection Agency (Administrator) during any period in which the Administrator and the Deputy Administrator of the Environmental Protection Agency have died, resigned, or become otherwise unable to perform the functions and duties of the office of Administrator:

(a) General Counsel;

(b) Assistant Administrator, Office of Solid Waste;

(c) Assistant Administrator for Toxic Substances (also known as the Assistant Administrator for the Office of Chemical Safety and Pollution Prevention);

(d) Assistant Administrator for the Office of Air and Radiation;

(e) Assistant Administrator for the Office of Water;

(f) Assistant Administrator for the Office of Enforcement and Compliance Assurance;

(g) Chief Financial Officer;

(h) Assistant Administrator for the Office of Research and Development;

(i) Assistant Administrator for the Office of International and Tribal Affairs;

(j) Assistant Administrator for the Office of Administration and Resources Management;

(k) Assistant Administrator for the Office of Environmental Information;

(l) Regional Administrator, Region VII;

(m) Deputy Regional Administrator, Region II;

(n) Principal Deputy General Counsel;

(o) Principal Deputy Assistant Administrator for the Office of Enforcement and Compliance Assurance; and

(p) Deputy Regional Administrator, Region V.

Sec. 2. Exceptions. (a) No individual who is serving in an office listed in section 1(a)-(p) of this order in an acting capacity shall, by virtue of so serving, act as Administrator pursuant to this order.

(b) No individual listed in section 1(a)-(p) of this order shall act as Administrator unless that individual is otherwise eligible to so serve under the Act.

(c) Notwithstanding the provisions of this order, the President retains discretion, to the extent permitted by law, to depart from this order in designating an acting Administrator.

Sec. 3. Revocation. Executive Order 13737 of August 12, 2016 (Providing an Order of Succession Within the Environmental Protection Agency), is hereby revoked.

Sec. 4. Judicial Review. This order is not intended to, and does not, create any right or benefit, substantive or procedural, enforceable at law or in equity by any party against the United States, its departments, agencies, or entities, its officers, employees, or agents, or any other person.

THE WHITE HOUSE,

January 13, 2017.

[FR Doc. 2017-01489

Filed 1-18-17; 11:15 am]

Billing code 3295-F7-P